ENVIRONMENTAL PROTECTION AGENCY

40 CFR Part 52

[EPA-R01-OAR-2012-0950; FRL-9959-68-Region 1]

Air Plan Approval; New Hampshire; Infrastructure Requirements for the 2010 Sulfur Dioxide National Ambient Air Quality Standards; Correction

AGENCY: Environmental Protection Agency, (EPA).

ACTION: Final rule; correcting amendment.

SUMMARY: The Environmental Protection Agency (EPA) published a final rule approving a New Hampshire's State Implementation Plan (SIP) submissions that addressed infrastructure requirements of the Clean Air Act (CAA or Act) for the 2010 sulfur dioxide (SO2) National Ambient Air Quality Standards (NAAQS) in the Federal Register on July 8, 2016. An error in the nonregulatory table in New Hampshire's SIP is identified and corrected in this action.

DATES: This rule is effective May 5, 2017.

FOR FURTHER INFORMATION CONTACT: Ida E. McDonnell, Manager, Air Permits, Toxics, and Indoor Programs Unit, Office of Ecosystem Protection, U.S. Environmental Protection Agency, EPA New England Regional Office, 5 Post Office Square, Suite 100, (OEP05-2), Boston, MA 02109-3912, phone number (617) 918-1653, fax number (617) 918-0653, email McDonnell.Ida@epa.gov.

SUPPLEMENTARY INFORMATION: EPA issued a final rule in the Federal Register on July 8, 2016 (81 FR 44542). An error occurred in the amendatory instructions to the table in 40 CFR 52.1520(e). The table entry for “Infrastructure SIP for the 2010 NO2 NAAQS” was unintentionally removed and later restored. This corrective action adds an entry for “Infrastructure SIP for the 2010 SO2 NAAQS” to the table in 40 CFR 52.1520(e), as was originally intended.

List of Subjects in 40 CFR Part 52

Environmental protection, Air pollution control, Incorporation by reference, Intergovernmental relations, Reporting and recordkeeping requirements, Sulfur oxides.

Dated: March 16, 2017.
Deborah A. Szaro,
Acting Regional Administrator, EPA New England.

Correction

In final rule FR Doc. 2016-15623, published in the issue of Friday, July 8, 2016 (81 FR 44542), make the following correction:

On page 44553, in the third column, remove amendatory instruction 3.

Part 52 of chapter I, title 40 of the Code of Federal Regulations is corrected by making the following correcting amendment:

PART 52—APPROVAL AND PROMULGATION OF IMPLEMENTATION PLANS

1. The authority citation for part 52 continues to read as follows:

Authority: 42 U.S.C. 7401 et seq.

Subpart EE—New Hampshire

2. In § 52.1520, the table in paragraph (e) is amended by adding the entry “Infrastructure SIP for the 2010 SO2 NAAQS” after the entry “Infrastructure SIP for the 2010 SO2 NAAQS” to read as follows:

§ 52.1520 Identification of plan.

* * * * *

(e) * * *

New Hampshire Non Regulatory
Name of nonregulatory SIP provision | Applicable geographic or nonattainment area | State submittal date/effective date | EPA approved date ³ | Explanations
* * * * * * *
Infrastructure SIP for the 2010 SO2 NAAQS | Statewide | 9/13/2013 | 7/8/2016, 81 FR 44553 | Approved submittal, except for certain aspects relating to PSD which were conditionally approved. See 52.1519.
* * * * * * *
³ In order to determine the EPA effective date for a specific provision listed in this table, consult the Federal Register notice cited in this column for the particular provision.

[FR Doc. 2017-09028 Filed 5-4-17; 8:45 am]

BILLING CODE 6560-50-P